DEPARTMENT OF COMMERCE

National Oceanic and Atmospheric Administration

[I.D. 082001C]

Bottlenose Dolphin Take Reduction Team Meeting

AGENCY: National Marine Fisheries Service (NMFS), National Oceanic and Atmospheric Administration (NOAA), Commerce.

ACTION: Notice of public meeting.

SUMMARY: The Take Reduction Team for Western North Atlantic coastal bottlenose dolphins (BDTRT) will hold its first meeting to develop a take reduction plan as described in the Marine Mammal Protection Act (MMPA). Input will be sought from the BDTRT on a peer review process for all data related to stock structure, abundance, and human-caused mortality and serious injury rates. The BDTRT will focus on reducing bycatch in the following fisheries: Mid-Atlantic coastal gillnet, North Carolina inshore gillnet, Southeast Atlantic gillnet, Southeastern U.S. Atlantic shark gillnet, Atlantic blue crab trap/pot, Mid-Atlantic haul/beach seine, North Carolina long haul seine, North Carolina roe mullet stop net, and Virginia pound net.

DATES: The meeting will be held on September 12, 2001, starting at 9 a.m. and continue on September 13, 2001, starting at 8:30 a.m.

ADDRESSES: The BDTRT meeting will be held at the Sheraton International Hotel Baltimore Washington International (BWI) Airport, 7032 Elm Road, Baltimore, MD 21240; Phone: (410) 859-3300; Fax: (410) 859-0565.

FOR FURTHER INFORMATION CONTACT: Kathy Wang, Southeast Region, 727-570-5312, or Emily Hanson, Office of Protected Resources, 301-713-2322, x101.

SUPPLEMENTARY INFORMATION: Section 117 of the MMPA requires that NMFS complete stock assessment reports for all marine mammal stocks within U.S. waters. Each draft stock assessment report, based on the best scientific information available, shall, among other things, categorize the status of the stock as one that either has a level of human-caused mortality and serious injury that is not likely to cause the stock to be reduced below its optimum sustainable population or is a strategic stock, with a description of the reasons therefore. In addition, each report shall estimate the potential biological removal (PBR) level for the stock, describing the information used to calculate it, including the recovery factor.

The MMPA defines a strategic stock as a marine mammal stock: (1) for which the level of direct human-caused mortality exceeds the PBR level; (2) which, based on the best available scientific information, is declining and is likely to be listed as a threatened species under the Endangered Species Act of 1973 (ESA) within the foreseeable future; or, (3) which is listed as a threatened or endangered species under the ESA or is designated as depleted under the MMPA.

The MMPA defines a stock as depleted if that species or population is below its optimum sustainable population or if it is a species or population stock that is listed as endangered or threatened under the ESA.

The MMPA defines the PBR level to mean the maximum number of animals, not including natural mortalities, that may be removed from a marine mammal stock while allowing that stock to reach or maintain its optimum sustainable population. The PBR level is the product of the following factors: the minimum population estimate of the stock; one-half the maximum theoretical or estimated net productivity rate of the stock at a small population size; and, a recovery factor of between 0.1 and 1.0.

The MMPA defines optimum sustainable population to mean, with respect to any population stock, the number of animals which will result in the maximum productivity of the population or the species, keeping in mind the carrying capacity of the habitat and the health of the ecosystem of which they form a constituent element.

The Western North Atlantic stock of coastal bottlenose dolphins is designated as strategic under the MMPA because the direct human-caused mortality exceeds the PBR level. The fisheries that interact with this stock are listed later in this document. This stock is also designated as depleted under the MMPA.

Section 118 (f) of the MMPA requires the Secretary of Commerce (Secretary) to develop and implement a take reduction plan designed to assist in the recovery or prevent the depletion of each strategic stock which interacts with a Category I or II commercial fishery. Based on section 118 (c) of the MMPA, 50 CFR 229.2 defines a Category I fishery as a commercial fishery that causes frequent incidental mortality and serious injury to marine mammals and a Category II fishery as a commercial fishery that causes occasional incidental mortality and serious injury to marine mammals.

The immediate goal of a take reduction plan for a strategic stock is to reduce, within 6 months of plan implementation, the incidental mortality or serious injury of marine mammals incidentally taken in the course of commercial fishing operations to levels less than the PBR level established for that stock under section 117 of the MMPA. The long-term goal of the plan is to reduce, within 5 years of plan implementation, the incidental mortality or serious injury of marine mammals incidentally taken in the course of commercial fishing operations to insignificant levels approaching a zero mortality and serious injury rate, taking into account the economics of the fishery, the availability of existing technology, and existing state or regional fishery management plans.

As explained under section 118 (f)(7) of the MMPA, where human-caused mortality and serious injury from a strategic stock is estimated to be equal to or greater than the PBR level established under section 117 for such stock and such stock interacts with Category I or II fisheries, the following procedures shall apply in the development of the take reduction plan for the stock:

(A) Not later than 6 months after the date of establishment of a take reduction team for the stock, the team shall submit a draft take reduction plan for such stock to the Secretary. Such draft take reduction plan shall be developed by consensus. In the event that consensus cannot be reached, the team shall advise the Secretary in writing on the range of possibilities considered by the team, and the views of both the majority and the minority.

(B) The Secretary shall take the draft take reduction plan into consideration and, not later than 60 days after the submission of the draft plan by the team, the Secretary shall publish in the Federal Register the plan proposed by the team, any changes proposed by the Secretary with an explanation of the reasons therefor, and proposed regulations to implement such plan, for public review and comment during a period not to exceed 90 days. In the event that the take reduction team does not submit a draft plan to the Secretary within 6 months, the Secretary shall, not later than 8 months after the establishment of the team, publish in the Federal Register a proposed take reduction plan and implementing regulations, for public review and comment during a period not to exceed 90 days.

(C) Not later than 90 days after the close of the comment period, the Secretary shall issue a final take reduction plan and implementing regulations.

(D) The Secretary shall, during a period of 30 days after publication of a final take reduction plan, utilize newspapers of general circulation, fishery trade associations, electronic media, and other means of advising commercial fishermen of the requirements of the plan and how to comply with them.

(E) The Secretary and the take reduction team shall meet every 6 months, or at such other intervals as the Secretary deems are necessary, to monitor the implementation of the final take reduction plan until such time that the Secretary determines that the objectives of the plan have been met.

(F) The Secretary shall amend the take reduction plan and implementing regulations as necessary to meet the requirements of this section, in accordance with the procedures in this section for the issuance of such plans and regulations.

Section 118 (f)(6)(C) states that members of take reduction teams shall have expertise regarding the conservation or biology of the marine mammal species which the take reduction plan will address, or the fishing practices which result in the incidental mortality and serious injury of such species.

The MMPA further specifies that members of a take reduction team shall include representatives of Federal agencies, each coastal state which has fisheries which interact with the species or stock, appropriate Regional Fishery Management Councils, interstate fisheries commissions, academic and scientific organizations, environmental groups, all commercial and recreational fisheries groups and gear types which incidentally take the species or stock, Alaska Native organizations or Indian tribal organizations, and others as the Secretary deems appropriate. Take reduction teams shall, to the maximum extent practicable, consist of an equitable balance among representatives of resource user interests and nonuser interests. Members of take reduction teams serve without compensation, but may be reimbursed by the Secretary, upon request, for reasonable travel costs and expenses incurred in performing their duties as members of the team.

NMFS, through a letter dated September 27, 2001, has asked the following individuals to be members of the BDTRT: Mike Baker, Florida Gillnet Representative; Dave Beresoff, North Carolina Gillnet and Crab Pot Representative; Tina Berger, Atlantic States Marine Fisheries Commission; Paul Biermann, North Carolina Gillnet Representative; David Cupka, South Carolina Wildlife and Marine Resources; Joseph DeAlteris, University of Rhode Island, Fisheries Center; Martin Dunson, Florida Crab Pot Representative; Lewis Gillingham, Virginia Marine Resources Commission; Doug Guthrie, North Carolina Stop Net Representative; Bruce Halgren, New Jersey Division of Fish and Wildlife; Emily Hanson, NMFS Office of Protected Resources; Chris Hickman, Long Haul Seine Fishery Representative; Fulton Love, Georgia Shad Gillnet Representative; Richard Luedtke, New Jersey Gillnet Representative; Rick Marks, New Jersey Gillnet and Haul Seine Representative; Dave Martin, Maryland Gillnet Representative; Bill McLellan, University of North Carolina at Wilmington; Ken Moran, South Carolina Shad Gillnet Representative; Fentress Munden, North Carolina Division of Marine Fisheries; Robert Munson, New Jersey Gillnet, Crab Pot and Pound Net Representative; Peter Nickson, Virginia Gillnet, Beach Seine, Crab Pot, and Pound Net Representative; Kerry O’Malley, South Atlantic Fishery Management Council; William Outten, Maryland Department of Natural Resources; Mike Peele, North Carolina Beach Seine, Pound Net, and Gillnet Representative; Carl Poppell, Georgia Crab Pot Representative; Tim Ragen, Marine Mammal Commission; Andy Read, Duke University Marine Laboratory; John Reynolds III, Marine Mammal Commission; Jerry Schill, North Carolina commercial fisheries representative; Richard Seagraves, Mid-Atlantic Fishery Management Council; Larry Simns, Maryland Crab Pot Representative; Ann Spellman, Florida Fish and Wildlife Conservation Commission; Lee Spence, Delaware Division of Fish and Wildlife; Mark Swingle, Virginia Marine Science Museum; Leonard Voss, Delaware Gillnet and Crab Pot Representative; Chris Walker, Virginia Gillnet Representative; Kathy Wang, NMFS Southeast Regional Office; Rob West, North Carolina Gillnet, Pound Net, and Crab Pot Representative; A.D. Willis, North Carolina Recreational Crab Pot and Gillnet Representative; David Woolman, South Carolina Crab Pot Representative; Nina Young, The Ocean Conservancy; Sharon Young, The Humane Society of the United States; Chris Zeman, American Oceans Campaign; Barb Zoodsma, Georgia Coastal Resources, Georgia Department of Natural Resources. The BDTRT will be facilitated by Hans Neuhauser and Jim Feldt, Georgia Environmental Policy Institute.

Section 118 (f)(6)(A)(ii) of the MMPA requires NMFS to publish the full geographic range of the marine mammal stock for which a take reduction team is being convened and list all commercial fisheries that cause incidental mortality and serious injury of marine mammals from such stock.

Western North Atlantic coastal bottlenose dolphins range seasonally as far north as Long Island, NY and as far south as central Florida. Multiple stocks of Western North Atlantic coastal bottlenose dolphins exist, and include year-round residents, seasonal residents, and migratory groups. In addition to the coastal bottlenose dolphins, a distinct, offshore ecotype also exists. Research is underway to improve data about the stock structure of coastal bottlenose dolphins and to define the offshore range of coastal bottlenose dolphins.

Western North Atlantic coastal bottlenose dolphins are known to interact with the following Category II commercial fisheries: Mid-Atlantic coastal gillnet, North Carolina inshore gillnet, Southeast Atlantic gillnet, Southeastern U.S. Atlantic shark gillnet, Atlantic blue crab trap/pot, Mid-Atlantic haul/beach seine, North Carolina long haul seine, North Carolina roe mullet stop net, and Virginia pound net. Additional commercial fisheries, classified as Category III fisheries, are known to rarely cause incidental mortality and serious injury to Western North Atlantic coastal bottlenose dolphins. These fisheries are identified in the 2001 List of Fisheries (66 FR 42780, August 15, 2001). Interactions between Western North Atlantic coastal bottlenose dolphins and recreational fisheries have also been documented.

NMFS fully intends to conduct the BDTRT process in a way that provides for national consistency yet accommodates the unique regional needs and characteristics of the team. The data and analysis used to support the BDTRT will go through an external peer-review process, be reviewed by NMFS’ Scientific Review Groups, and be made available for public review and comment as a Stock Assessment Report. Take Reduction Teams are not subject to the Federal Advisory Committee Act (5 App. U.S.C.). Meetings are open to the public.

Dated: August 27, 2001.
Ann D. Terbush,
Acting Deputy Director, Office of Protected Resources, National Marine Fisheries Service.

[FR Doc. 01-22071 Filed 8-30-01; 8:45 am]

BILLING CODE 3510-22-S